DEPARTMENT OF HOMELAND SECURITY

Federal Emergency Management Agency

[Docket ID: FEMA-2013-0033; OMB No. 1660-0123]

Agency Information Collection Activities: Proposed Collection; Comment Request

AGENCY: Federal Emergency Management Agency, DHS.

ACTION: Notice.

SUMMARY: The Federal Emergency Management Agency, as part of its continuing effort to reduce paperwork and respondent burden, invites the general public and other Federal agencies to take this opportunity to comment on an extension, without change, of a currently approved information collection. In accordance with the Paperwork Reduction Act of 1995, this notice seeks comments concerning the Regional Catastrophic Preparedness Grant Program (RCPGP).

DATES: Comments must be submitted on or before October 4, 2013.

ADDRESSES: To avoid duplicate submissions to the docket, please use only one of the following means to submit comments:

(1) Online. Submit comments at www.regulations.gov under Docket ID FEMA-2013-0033. Follow the instructions for submitting comments.

(2) Mail. Submit written comments to Docket Manager, Office of Chief Counsel, DHS/FEMA, 500 C Street SW., Room 840, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov.

FOR FURTHER INFORMATION CONTACT: Contact Nicholas Sleptzoff, Program Specialist, FEMA, National Preparedness Directorate, 202-212-3794 for additional information. You may contact the Records Management Division for copies of the proposed collection of information at facsimile number (202) 646-3347 or email address: FEMA-Information-Collections-Management@dhs.gov.

SUPPLEMENTARY INFORMATION: The purpose of the Regional Catastrophic Preparedness Grant Program (RCPGP) is to enhance catastrophic incident preparedness in Tier 1 and selected Tier 2 Urban Areas. RCPGP is intended to support coordination of regional all-hazard planning for catastrophic events, including the development of integrated planning communities, plans, protocols, and procedures to manage a catastrophic event. The RCPGP is authorized by Title III of the Department of Homeland Security Appropriations Act, 2013 (Pub. L. 113-6).

The RCPGP information is to be used to produce improved catastrophic plans and planning processes by the states and local jurisdictions involved. Specifically, the plans and planning must address shortcomings in existing plans to address regional catastrophic planning issues, including the establishment of a regional network of plans to address catastrophic events. Plans will include a process for establishing an incident command structure and will also identify roles and responsibilities for each organization. Additionally, plans will identify detailed resource, personnel, and asset allocations in order to execute strategic objectives and translate strategic priorities into operational execution. These plans should apply existing capabilities and assist in assessing gaps in needed capabilities.

Collection of Information

Title: FEMA Preparedness Grants: Regional Catastrophic Preparedness Grant Program (RCPGP).

OMB Number: 1660-0123.

Type of Information Collection: Extension, without change, of a currently approved information collection.

FEMA Forms: FEMA Form 089-19, RCPGP Investment Justification Template; FEMA Form 089-26, RCGCP (Sample) Detailed Project Plan Template; FEMA Form 089-17, RCPT Membership List.

Abstract: The RCPGP is an important tool among a comprehensive set of measures to help strengthen the Nation against risks associated with potential terrorist attacks. DHS/FEMA uses the information to evaluate applicants' familiarity with the national preparedness architecture and identify how elements of this architecture have been incorporated into regional/state/local planning, operations, and investments.

Affected Public: State, local or Tribal Government.

Number of Respondents: 10.

Number of Responses: 40.

Estimated Total Annual Burden Hours: 1,762 hours.

Estimated Annualized Burden Hours and Costs
Type of respondent | Form name/form number | Number of respondents | Number of responses per respondent | Total number of responses | Average burden per response (in hours) | Total annual burden (in hours) | Average hourly wage rate ($) | Total annual respondent cost ($)
State, Local or Tribal Government | RCPGP Investment Justification Template/FEMA Form 089-19 | 10 | 1 | 10 | 120 | 1,200 | $50.08 | $60,096.00
State, Local or Tribal Government | RCPGP (Sample) Detailed Project Plan Template/FEMA Form 089-26 | 10 | 1 | 10 | 40 | 400 | 50.08 | 20,032.00
State, Local or Tribal Government | Regional Catastrophic Planning Team (RCPT) Charter Guidelines | 10 | 1 | 10 | 16 | 160 | 50.08 | 8,012.80
State, Local or Tribal Government | RCPT Membership List/FEMA Form 089-17 | 10 | 1 | 10 | 0.2 | 2 | 50.08 | 100.16
Total |  | 10 |  | 40 |  | 1,762 |  | 88,240.96

Estimated Cost: The estimated annual cost to respondents for the hour burden is $88,240.96. There are no annual costs to respondents operations and maintenance costs for technical services. There is no annual start-up or capital costs. The cost to the Federal Government is $33,963.52.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: July 29, 2013.
Loretta Cassatt,
Chief, Records Branch, Records Management Division, Mission Support Bureau, Federal Emergency Management Agency, Department of Homeland Security.

[FR Doc. 2013-18791 Filed 8-2-13; 8:45 am]

BILLING CODE 9111-46-P